DEPARTMENT OF HEALTH AND HUMAN SERVICES

Administration for Children and Families

Notice of Meeting; National Commission on Children and Disasters

AGENCY: Administration for Children and Families, Department of Health and Human Services.

ACTION: Notice of meeting.

DATES: The meeting will be held on Tuesday, September 15, 2009, from 9:30 a.m. to 3:30 p.m.

ADDRESSES: The meeting will be held at the Administration for Children and Families, 901 D Street, SW., Washington, DC 20024. To attend either in person or via teleconference, please register by 5 p.m., Eastern Time, September 11, 2009. To register, please e-mail capelt@acf.hhs.gov with “Meeting Registration” in the subject line, or call (202) 205-9560. Registration must include your name, affiliation, and phone number. If you require a sign-language interpreter or other special assistance, please call Carol Apelt at (202) 205-4618 as soon as possible and no later than 5 p.m., Eastern Time, September 1, 2009.

Agenda: The Commission will hear reports from four subcommittees: (1) Pediatric Medical Care Subcommittee; (2) Education, Child Welfare, and Juvenile Justice Subcommittee; (3) Evacuation, Transportation and Housing Subcommittee; and (4) Human Services Recovery Subcommittee. The Commission will also deliberate and vote on its Interim Report to the President and Congress.

Written comments may be submitted electronically to roberta.lavin@acf.hhs.gov with “Public Comment” in the subject line. The Commission recommends that you include your name, mailing address and an email address or other contact information in the body of your comment. This ensures that you can be identified as the submitter of the comment, and it allows the Commission to contact you if further information on the substance of your comment is needed or if your comment cannot be read due to technical difficulties. The Commission's policy is that the Commission will not edit your comment, and any identifying or contact information provided in the body of a comment will be included as part of the comment placed in the official record.

The Commission will provide an opportunity for public comments during the public meeting on September 15, 2009. Those wishing to speak will be limited to three minutes each; speakers are encouraged to submit their remarks in writing in advance to ensure their comment is received in case there is inadequate time for all comments to be heard on September 15, 2009.

Additional Information: Contact Roberta Lavin, Office of Human Services Emergency Preparedness and Response, e-mail roberta.lavin@acf.hhs.gov or phone (202) 401-9306.

SUPPLEMENTARY INFORMATION: The National Commission on Children and Disasters is an independent Commission that shall conduct a comprehensive study to examine and assess the needs of children as they relate to preparation for, response to, and recovery from all hazards, building upon the evaluations of other entities and avoiding unnecessary duplication by reviewing the findings, conclusions, and recommendations of these entities. The Commission shall then submit a report to the President and Congress on the Commission's independent and specific findings, conclusions, and recommendations to address the needs of children as they relate to preparation for, response to, and recovery from all hazards, including major disasters and emergencies.

Dated: August 3, 2009.
David A. Hansell,
Acting Assistant Secretary for Children and Families.

[FR Doc. E9-19157 Filed 8-10-09; 8:45 am]

BILLING CODE 4184-01-P